DEPARTMENT OF THE INTERIOR

National Park Service

Star-Spangled Banner National Historic Trail Study Report Draft Environmental Impact Statement; Maryland, District of Columbia, and Virginia

AGENCY: National Park Service, Department of the Interior.

ACTION: Notice of Availability of the draft environmental impact statement for the Star-Spangled Banner National Historic Trail Study.

SUMMARY: Pursuant to the National Environmental Policy Act of 1969, 42 U.S.C. 4332(c), the National Park Service announces the availability of the draft Environmental Impact Statement for the Star-Spangled Banner National Historic Trail.

DATES: The National Park Service will accept comments from the public on the Draft Environmental Impact Statement for 60 days after publication of this notice. No public meetings are scheduled at this time.

ADDRESSES: Information will be available for public review and comment from the Northeast Region, National Park Service, 200 Chestnut Street, Philadelphia, PA 19106 or at http://www.nps.gov/phso/jstarspan/.

FOR FURTHER INFORMATION CONTACT: William Sharp, Project Manager, Northeast Region, 215-597-1655 or william_sharp@nps.gov.

SUPPLEMENTARY INFORMATION: If you wish to comment, you may submit your comments by any one of several methods. You may mail or e-mail comments to William Sharp, Northeast Region, 200 Chestnut Street, Philadelphia, PA 19106, or william_sharp@nps.gov. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: November 5, 2003.
Marie Rust,
Director, Northeast Region, National Park Service.

[FR Doc. 03-30926 Filed 12-15-03; 8:45 am]

BILLING CODE 4310-25-M